FEDERAL RETIREMENT THRIFT INVESTMENT BOARD

Notice of Board Meeting

DATES: December 20, 2022 at 10 a.m.

ADDRESSES: Telephonic. Dial-in (listen only) information: Number: 1-202-599-1426, Code: 551 099 188#; or via web: https://teams.microsoft.com/l/meetup-join/19%3ameeting_YzkzY2M0NDAtMzI1Mi00M2M3LWFiYzMtN2FhZjcxNzc1MmJm%40thread.v2/0?context=%7b%22Tid%22%3a%223f6323b7-e3fd-4f35-b43d-1a7afae5910d%22%2c%22Oid%22%3a%227c8d802c-5559-41ed-9868-8bfad5d44af9%22%7d.

FOR FURTHER INFORMATION CONTACT: Kimberly Weaver, Director, Office of External Affairs, (202) 942-1640.

SUPPLEMENTARY INFORMATION:

Board Meeting Agenda

Open Session

1. Approval of the November 18, 2022 Board Meeting Minutes

2. Monthly Reports

(a) Participant Activity Report

(b) Investment Report

(c) Legislative Report

3. Quarterly Report

(d) Vendor Risk Management Update

4. Internal Audit Update

5. 2023 Board Calendar Review

Closed Session

6. Information covered under 5 U.S.C. 552b (c)(9)(B).

Authority: 5 U.S.C. 552b (e)(1).

Dated: December 6, 2022.
Dharmesh Vashee,
General Counsel, Federal Retirement Thrift Investment Board.

[FR Doc. 2022-26869 Filed 12-9-22; 8:45 am]

BILLING CODE P